DEPARTMENT OF LABOR

Employment and Training Administration

[TA-W-60,608]

Valley Mills, Inc., Valley Head, AL; Notice of Termination of Investigation

Pursuant to Section 221 of the Trade Act of 1974, as amended, an investigation was initiated on December 15, 2006 in response to a worker petition filed by a company official on behalf of workers at Valley Mills, Inc., Valley Head, Alabama.

The petitioner has requested that the petition be withdrawn. Consequently, the investigation has been terminated.

Signed at Washington, DC this 17th day of January, 2007.
Elliott S. Kushner,
Certifying Officer, Division of Trade Adjustment Assistance.

[FR Doc. E7-1071 Filed 1-24-07; 8:45 am]

BILLING CODE 4510-30-P